DEPARTMENT OF LABOR

Office of the Secretary

Submission for OMB Review; Comment Request

June 25, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or e-mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Labor Condition Application and Requirements for Employers Using Nonimmigrants on H-1B Visas.

OMB Number: 1205-0310.

Affected Public: Individuals or households, Business or other for-profit, Not-for-profit institutions, Federal Government, and State, Local, or Tribal Government.

Type of Response: Reporting and Recordkeeping.

Frequency: On occasion.

Number of Respondents: 70,000.

Requirement | Responses | Average reponses time (hours) | Annual hours
Labor Condition Applications—20 CFR 655.760 | 275,000 | 1.00 | 275,000
Documentation of Corporate Identity—20 CFR 655.760 | 1,000 | 0.50 | 500
Determination of H-1B Dependency—20 CFR 655.736 | 400 | 0.50 | 200
Retaining Copies of H-1B Petitions and Extensions—20 CFR 655.736 | 3,500 | 0.05 | 175
List of Exempt H-1B Employees in Public Access File—20 CFR 655.737(e)(1) | 1,600 | 0.25 | 400
Record of Assurances of Non-Displacement of U.S. Workers at Second Employer's Worksite— 20 CFR 655.738(e) | 7,500 | 0.17 | 1,250
Offers of Employment to Displaced U.S. Workers—20 CFR 655.738(e) | 75 | 0.50 | 38
Documentation of U.S. Worker Recruitment—20 CFR 655.739(i) | 10,000 | 0.33 | 3,333
Documentation of Fringe Benefits—20 CFR 655.731(b) | 7,000 | 0.25 | 1,750
Documentation of Fringe Benefits (Multi-national Employers—20 CFR 655.731(b) | 17,500 | 0.08 | 1,458
Wage Recordkeeping Requirements Applicable to Employers of H-1B Non-immigrants—20 CAR 655.731(b) | 10,500 | 2.50 | 26,250
Information Form Alleging Violations (WH-4) | 200 | 0.33 | 67
Totals | 334,275 |  | 310,421

Total Annualized Capital/Startup Costs: $0.

Total Annual Costs (operating/maintaining systems or purchasing services): $0.

Description: Under the Immigration and Nationality Act, employers seeking to employ Nonimmigrants on H-1B Visas in specialty occupations are required to file a labor condition application with and receive certification from the Department of Labor before the Immigration and Nationalization service may approve an H-1B petition.

Ira L. Mills,
Departmental Clearance Officer.

[FR Doc. 02-16597 Filed 7-1-02; 8:45 am]

BILLING CODE 4510-30-P